DEPARTMENT OF HEALTH AND HUMAN SERVICES

Administration for Children and Families

[CFDA Number: 93.623]

Award of a Single-Source Expansion Supplement Grant to the National Runaway Switchboard, dba National Runaway Safeline, in Chicago, IL

AGENCY: Family and Youth Services Bureau (FYSB), Administration on Children Youth and Families (ACYF), ACF, HHS.

ACTION: Announcing the award of a single-source program expansion supplement to the National Runaway Switchboard, Inc., dba National Runaway Safeline, (NRS) in Chicago, IL.

SUMMARY: The Administration for Children and Families (ACF), Administration on Children, Youth and Families (ACYF), Family and Youth Services Bureau (FYSB), Division of Adolescent Development and Support (DADS) announces the award of a single-source program expansion supplement grant of $40,000 to the National Runaway Switchboard (NRS) to support activities associated with the 40th anniversary of the passage of the Runaway and Homeless Youth Act and the distribution of information to the general public on how to access NRS resources. NRS will also assist in producing a 40th Anniversary Public Service Announcement (PSA) commemorating the passage of the Runaway and Homeless Youth Act.

DATES: The period of support is from 08/01/2014 through 07/31/2015.

FOR FURTHER INFORMATION CONTACT: Christopher Holloway, Central Office Program Manager, Runaway and Homeless Youth Program, Division of Adolescent Development and Support, Family and Youth Services Bureau, 1250 Maryland Avenue SW., Washington, DC 20024. Telephone: 202-205-9560. Email: Christopher.Holloway@acf.hhs.gov.

SUPPLEMENTARY INFORMATION: NRS serves as the federally-designated national communication system for homeless and runaway youth. Through hotline and online services, NRS provides crisis intervention, referrals to local resources, and education and prevention services to runaway, homeless and at-risk youth and their families and communities throughout the country 24/7 year-round in a neutral and confidential manner.

NRS will work with the National Clearinghouse on Families and Youth on development of the PSA. The focus of this partnership will be to write the script that ties together the messaging for FYSB's RHY campaign. NRS will distribute the PSA to network and local TV stations and cable outlets for broadcast.

Statutory Authority: The Reconnecting Homeless Youth Act of 2008, Pub, L. 110-378, reauthorized the Runaway and Homeless Youth Act (RHYA) (42 U.S.C. 5714-11).

Christopher Beach,
Senior Grants Policy Specialist, Office of Administration, Office of Financial Services, Division of Grants Policy.

[FR Doc. 2014-27213 Filed 11-17-14; 8:45 am]

BILLING CODE P